NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before September 24, 2009. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1228.24(b)(3).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Agency-wide (N1-AU-09-11, 1 item, 1 temporary item). Master files of an electronic information system that contains Training and Doctrine Command budget control and reconciliation data.

2. Department of Commerce, Bureau of the Census (N1-29-09-1, 1 item, 1 temporary item). Questionnaires containing responses to a survey of Compact of Free Association migrants conducted for the Department of the Interior in 2008.

3. Department of Defense, Army and Air Force Exchange Service (N1-334-09-2, 3 items, 3 temporary items). Reports of serious incidents relating to agency assets, property, or employees.

4. Department of Defense, Army and Air Force Exchange Service (N1-334-09-3, 3 items, 3 temporary items). Records relating to criminal investigations, including reports, interview records, and recommendations for actions to prevent recurrence.

5. Department of Defense, Army and Air Force Exchange Service (N1-334-09-4, 3 items, 3 temporary items). Records relating to investigations of losses resulting from robberies, fraud, and other felonies and misdemeanors.

6. Department of Defense, Joint Staff (N1-218-09-4, 1 item, 1 temporary item). Master files of an electronic information system that contains vulnerability assessment data and is used to identify, track, prioritize, and manage vulnerabilities.

7. Department of Defense, Joint Staff (N1-218-09-5, 1 item, 1 temporary item). Master files of an electronic information system that contains information relating to combating terrorism, including reports, publications, instructions, and training information. This system also allows users to take part in discussion forums.

8. Department of Health and Human Services, Food and Drug Administration (N1-88-09-6, 16 items, 16 temporary items). Records of the Center for Food Safety and Applied Nutrition, including such files as pre-market and post-market notifications for new dietary supplements, background documentation pertaining to the development and amendment of food standards, records relating to color additive certification, records relating to milk regulatory activities, master data files and final reports from the Food Label and Package Survey, and master data files accumulated in connection with the voluntary registration of cosmetics.

9. Department of Homeland Security, Immigration and Customs Enforcement (N1-567-09-2, 3 items, 3 temporary items). Master files and outputs associated with an electronic information system that contains data concerning students in law enforcement training courses.

10. Department of Homeland Security, Immigration and Customs Enforcement (N1-567-09-3, 2 items, 2 temporary items). Master files associated with an electronic information system used to analyze trade and financial data in connection with investigations of money laundering, smuggling, trade fraud, and other crimes relating to import and export.

11. Department of Justice, Office of the Inspector General (N1-60-09-25, 8 items, 5 temporary items). Audit and evaluation working files, investigation files lacking in historical value, and follow-up records. Proposed for permanent retention are final audit and evaluation reports. Investigation files that pertain to significant cases were previously approved for permanent retention.

12. Department of Justice, Federal Bureau of Investigation (N1-65-09-16, 5 items, 4 temporary items). Data contained in an electronic information system used to track terrorist threats that are not actionable. Also included are system outputs, audit files, and related records. Proposed for permanent retention are master files that contain data that is actionable.

13. Department of Justice, National Drug Intelligence Center (N1-523-09-2, 1 item, 1 temporary item). Master files of an electronic information system that contains intelligence data relating to illegal drug manufacturing, trafficking, and related activities.

14. Department of State, Bureau of Consular Affairs (N1-59-09-22, 2 items, 2 temporary items). Records relating to consular notifications and access for foreign nationals arrested in the United States. Also included are notification documents received in error from law enforcement agencies.

15. Department of Transportation, Federal Aviation Administration (N1-237-09-2, 2 items, 2 temporary items). Master files associated with an electronic information system used to manage flight inspection operations. Also included are paper copies of daily flight logs, which are input into the system.

16. Department of Transportation, Federal Aviation Administration (N1-237-09-3, 2 items, 2 temporary items). Master files associated with an electronic information system used to track maintenance of aircraft owned and operated by the agency for flight inspection missions.

17. Department of Transportation, Federal Aviation Administration (N1-237-09-4, 4 items, 4 temporary items). Records relating to fuel expenses for agency aircraft. Included are such records as receipts and invoices, reports on fuel usage, and master files associated with an electronic information system used for reconciling fuel expenses.

18. Department of Transportation, Federal Aviation Administration (N1-237-09-5, 1 item, 1 temporary item). Master files of an electronic information system used to maintain information relating to the results of flight inspections.

19. Department of the Treasury, Internal Revenue Service (N1-58-09-31, 1 item, 1 temporary item). Forms used on a quarterly basis to document managerial awareness of security procedures.

20. Department of the Treasury, Internal Revenue Service (N1-58-09-32, 3 items, 3 temporary items). Master files and outputs associated with an electronic information system used as a project management tool in connection with transitioning new or modified systems from the developing organization to the organization receiving them.

21. Environmental Protection Agency, Office of Air and Radiation (N1-412-07-59, 13 items, 7 temporary items). Nonconforming motor vehicle case files; air quality management plans maintained regionally; chlorofluorocarbon certificates and registrations; certification records; Ann Arbor recall and in-use testing records, data records, and address correspondence file; and emission factor program test records. Paper copies of these files were previously approved for disposal. Proposed for permanent retention are State, Tribal and Federal implementation plans, State and local agency air monitoring files, and State inspection and maintenance program records, for which paper copies were previously approved as permanent.

Dated: August 19, 2009.
Michael J. Kurtz,
Assistant Archivist for Records Services—Washington, DC.

[FR Doc. E9-20569 Filed 8-24-09; 8:45 am]

BILLING CODE 7515-01-P